DEPARTMENT OF THE INTERIOR

Geological Survey

[Docket No. USGS-2026-0067; OMB Control Number 1028-0106GX26WC00GJNV331]

Agency Information Collection Activities; USGS Ash Fall Report

AGENCY: U.S. Geological Survey, Interior.

ACTION: Notice of information collection; request for comment.

SUMMARY: In accordance with the Paperwork Reduction Act (PRA) of 1995, the U.S. Geological Survey (USGS) is proposing to renew an information collection.

DATES: Interested persons are invited to submit comments on or before May 4, 2026.

ADDRESSES: You may submit comments by one of the following methods:

Internet: https://www.regulations.gov. Search for and submit comments on Docket No. USGS-2026-0067.

U.S. Mail: USGS, Information Collections Clearance Officer, 12201 Sunrise Valley Drive, MS 159, Reston, VA 20192.

FOR FURTHER INFORMATION CONTACT: Kristi Wallace by email at kwallace@usgs.gov, or by telephone at 907-786-7109. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995 (44 U.S.C. 3501 et seq.) and 5 CFR 1320.8(d)(1), all information collections require approval under the PRA. An agency may not conduct or sponsor, nor is an individual required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comments addressing the following:

(1) Whether or not the collection of information is necessary for the proper performance of the functions of the agency, including whether the information will have practical utility.

(2) The accuracy of our estimate of the burden for this collection of information, including the validity of the methodology and assumptions used.

(3) Ways to enhance the quality, utility, and clarity of the information to be collected; and

(4) How the agency might minimize the burden of the collection of information on those who are to respond, including using appropriate automated, electronic, mechanical, or other technological collection techniques or other forms of information technology, e.g., permitting electronic submission of response.

Comments that you submit in response to this notice are a matter of public record. We will include or summarize each comment in our request to OMB to approve this information collection request. Before including your address, phone number, email address, or other personally identifiable information (PII) in your comment, you should be aware that your entire comment—including your PII—may be made publicly available at any time. While you can ask us in your comment to withhold your PII from public review, we cannot guarantee that we will be able to do so.

Abstract: The USGS provides notifications and warnings to the public of volcanic activity in the U.S. in order to reduce the loss of life, property, and economic and societal impacts. Ash fall to the ground can pose significant disruption and damage to buildings, transportation, water and wastewater, power supply, communications equipment, agriculture, and primary production leading to potentially substantial societal impacts and costs, even at thicknesses of only a few millimeters or inches. Additionally, fine grained ash can cause health impacts to humans and animals when ingested. The USGS will use reports entered in real time by respondents of ash fall in their local area to correct or refine ash fall forecasts as the ash cloud moves downwind. Retrospectively these reports will enable the USGS to improve their ash fall models and further research into eruptive processes.

This project is a database module and web interface allowing the public and Alaska Volcano Observatory (AVO) staff to enter reports of ash fall in their local area in real time and retrospectively following an eruptive event. Users browsing the AVO website during eruptions will be directed towards a web form allowing them to fill in ash fall information and submit the information to AVO.

Compiled ash fall reports are available in real-time to AVO staff through the AVO internal website. A pre-formatted summary report or table that distills information received online will show ash fall reports in chronological order with key fields including (1) date and time of ash fall, (2) location, (3) positive or negative ash fall, (4) name of observer, and (5) contact. Information is easily viewable internally on the report so that calls for clarification can be made by AVO staff quickly and so that operations room staff can visualize ashfall information quickly.

Ash fall report data will also be displayed on a dynamic map interface and show positive (yes ash) and negative (no ash) ash fall reports by location. Ash fall reports (icons) will be publicly displayed for a period of 24 hours and shaded differently as they age so that the age of reports is obvious.

The ash fall report database will help AVO track eruption clouds and associated fallout downwind. These reports from the public will also give scientists a more complete record of the amount and duration and other conditions of ash fall. Getting first-hand accounts of ash fall will support model ash fall development and interpretation of satellite imagery. AVO scientists will—as time allows—be able to contact the individuals using their entered contact information for clarification and details. Knowing the locations from which ash fall reports have been filed will improve ash fall warning messages and AVO Volcanic Activity Notifications and will make fieldwork more efficient. AVO staff will be able to condense and summarize the various ash fall reports and forward that information on to emergency management agencies and the wider public. The online form will also free up resources during exceedingly busy times during an eruption, as most individuals currently phone AVO with their reports.

Title of Collection: USGS Ash Fall Report.

OMB Control Number: 1028-0106.

Form Number: None.

Type of Review: Extension of a currently approved collection.

Respondents/Affected Public: General Public, local governments, and emergency managers.

Total Estimated Number of Annual Respondents: 250.

Total Estimated Number of Annual Responses: 250.

Estimated Completion Time per Response: 5 minutes.

Total Estimated Number of Annual Burden Hours: 21 hours.

Respondent's Obligation: Voluntary.

Frequency of Collection: On occasion, after each ash fall event.

Total Estimated Annual Non-hour Burden Cost: We have not identified any “non-hour cost” burdens associated with this collection of information.

The authority for this action is the PRA of 1995 (44 U.S.C. 3501 et seq.).

Jacob B. Lowenstern,
Acting Center Director, USGS Volcano Science Center.

[FR Doc. 2026-04155 Filed 3-2-26; 8:45 am]

BILLING CODE 4388-11-P